NATIONAL SCIENCE FOUNDATION

Special Emphasis Panel in Information and Intelligent Systems; Notice of Meeting

In accordance with the Federal Advisory Committee Act (Pub. L. 92-463, as amended), the National Science Foundation announces the following meeting:

Name: Special Emphasis Panel in Information and Intelligent Systems (1200).

Date and Time: June 15-16, 2000, 8:30 am-5:00 pm.

Place: Wissenschaftiches Bibliothekswesen, Deutsche Forschungsgemeinschaft, Kennedyallee 40, D-53170 Bonn.

Type of Meeting: Closed.

Contact Person: /Dr. Ephraim Glinert, Deputy Division Director National Science Foundation, 4201 Wilson Blvd., Arlington, VA 22230. Telephone: (703) 306-1926.

Purpose of Meeting: To provide advice and recommendations concerning proposals submitted to NSF for financial support.

Agenda: To review and evaluate the Special Project's International Digital Libraries Collaborative Research Program proposals as part of the selection process for awards.

Reason for Closing: The proposals being reviewed include information of a proprietary or confidential nature, including technical information, financial data, such as salaries; and personal information concerning individuals associated with the proposals. These matters are exempt under 5 U.S.C. 552b(c), (4) and (6) of the Government in the Sunshine Act.

Reason for Late Notice: This notice is late due to difficulty in scheduling.

Note: Closed portions are proper under Sunshine Act exemptions cited. The CMO's signature on this Notice is the required determination.

Dated: June 12, 2000.
Karen J. York,
Committee Management Officer.

[FR Doc. 00-15221 Filed 6-15-00; 8:45 am]

BILLING CODE 7555-01-M